COMMODITY FUTURES TRADING COMMISSION

17 CFR Part 10

Rules of Practice

CFR Correction

In Title 17 of the Code of Federal Regulations, Parts 1 to 40, revised as of April 1, 2015, on page 386, in § 10.12, paragraph (a)(2)(v) is reinstated to read as follows:

§ 10.12 Service and filing of documents; form and execution.

(a) * * *

(2) * * *

(v) Service shall be complete at the time of personal service; upon deposit in the mail or with a similar commercial package delivery service of a properly addressed document for which all postage or delivery service fees have been paid; or upon transmission by fax or email. Where a party effects service by mail or similar package delivery service (but not by fax or email), the time within which the party being served may respond shall be extended by five (5) days. Service by fax or email shall be permitted at the discretion of the Presiding Officer, with the parties' consent. Signed documents that are served by email must be in PDF or other non-alterable form.

* * * * *

[FR Doc. 2016-07017 Filed 3-25-16; 8:45 am]

BILLING CODE 1505-01-D